ENVIRONMENTAL PROTECTION AGENCY

40 CFR Part 52

[CA 140-0396; FRL-7509-4]

Disapproval of State Implementation Plan Revisions, Antelope Valley Air Quality Management District, Butte County Air Quality Management District, Kern County Air Pollution Control District, Mojave Desert Air Quality Management District, and Shasta County Air Quality Management District

AGENCY: Environmental Protection Agency (EPA).

ACTION: Proposed rule.

SUMMARY: EPA is proposing to disapprove revisions to the Antelope Valley Air Quality Management District (AVAQMD), Butte County Air Quality Management District (BCAQMD), Kern County Air Pollution Control District (KCAPCD), Mojave Desert Air Quality Management District (MDAQMD), and Shasta County Air Quality Management District (SHAQMD) portions of the California State Implementation Plan (SIP) concerning excess emissions. We are proposing action on local rules that regulate these emissions under the Clean Air Act as amended in 1990 (CAA or the Act). We are taking comments on this proposal and plan to follow with a final action.

DATES: Any comments must arrive by July 7, 2003.

ADDRESSES: Mail comments to Andrew Steckel, Rulemaking Office Chief (AIR-4), Air Division, U.S. Environmental Protection Agency, Region IX, 75 Hawthorne Street, San Francisco, CA 94105 or e-mail to steckel.andrew@epa.gov.

You can inspect copies of the submitted rule revisions and EPA's technical support documents (TSDs) at our Region IX office during normal business hours. You may also see copies of the submitted rule revisions at the following locations:

California Air Resources Board, Stationary Source Division, Rule Evaluation Section, 1001 “I” Street, Sacramento, CA 95814.

Antelope Valley AQMD, 43301 Division St., Ste. 206, Lancaster, CA 93535-4649.

Butte County AQMD, 2525 Dominic Drive, Suite J, Chico, CA 95928-7184.

Kern County APCD, 2700 “M” Street, Suite 302, Bakersfield, CA 93301-2370.

Mojave Desert AQMD, 14306 Park Avenue, Victorville, CA 92392-2310.

Shasta County AQMD, 1855 Placer Street, Ste. 101, Redding, CA 96001-1759.

Copies of the rules may also be available via the Internet at http://www.arb.ca.gov/drdb/drdbltxt.htm. Please be advised that this is not an EPA Web site and may not contain the same version of the rule that was submitted to EPA.

FOR FURTHER INFORMATION CONTACT: Thomas C. Canaday, EPA Region IX, (415) 947-4121.

SUPPLEMENTARY INFORMATION: Throughout this document, “we,” “us,” and “our” refer to EPA.

Table of Contents

I. The State's Submittal

A. What rules did the State submit?

B. Are there other versions of these rules?

C. What is the purpose of the submitted rules?

II. EPA's Evaluation and Action

A. How is EPA evaluating the rules?

B. Do the rules meet the evaluation criteria?

C. Proposed action and public comment

III. Administrative Requirements

I. The State's Submittal

A. What Rules Did the State Submit?

Table 1 lists the rules proposed for disapproval with the date that they were adopted and submitted by the California Air Resources Board (CARB).

Table 1.—Submitted Rules
Local agency | Rule No. | Rule title | Adopted | Submitted
AVAQMD | 430 | Breakdown Provisions | 03/17/98 | 02/16/99
BCAQMD | 275 | Reporting Procedures for Excess Emissions | 02/15/96 | 05/10/96
KCAPCD | 111 | Equipment Breakdown | 05/02/96 | 07/23/96
MDAQMD | 430 | Breakdown Provisions | 12/21/94 | 01/24/95
SHAQMD | 3:10 | Excess Emissions | 12/05/95 | 05/10/96

On April 23, 1999, we determined that the AVAQMD Rule 430 submittal met the completeness criteria in 40 CFR part 51 Appendix V, which must be met before formal EPA review. On July 19, 1996, we determined that the BCAQMD Rule 275 submittal and the SHAQMD Rule 3:10 submittal met the completeness criteria. On October 30, 1996, we determined that the KCAPCD Rule 111 submittal met the completeness criteria and on February 24, 1995, we determined that the MDAQMD Rule 430 submittal met the completeness criteria.

B. Are There Other Versions of These Rules?

There are no previous versions of AVAQMD Rule 430, BCAQMD Rule 275, MDAQMD Rule 430 or SHAQMD Rule 3:10 in the SIP. We approved a version of KCAPCD Rule 111 into the SIP on October 24, 1980. The Kern County Air Pollution Control District adopted a revision to the SIP-approved version on May 2, 1996, and CARB submitted it to us on July 23, 1996.

C. What Is the Purpose of the Submitted Rules?

AVAQMD Rule 430, KCAPCD Rule 111, and MDAQMD Rule 430 establish that the Air Pollution Control Officer (APCO) may, in his discretion, refrain from enforcement action against an owner or operator of any equipment which has violated a technology-based emission limitation provided that a breakdown has occurred and certain other conditions are met. BCAQMD Rule 275 and SHAQMD Rule 3:10 establish that an emergency constitutes an affirmative defense to any action brought for non-compliance with technology-based emission limits. SHAQMD Rule 3:10 also provides that excess emissions during start-up and shutdown shall not be considered a violation if the owner or operator can demonstrate that the excess emissions are unavoidable. Finally, SHAQMD Rule 3:10 states that the APCO may provide an exemption for excess emissions during start-up and shutdown in the permit for a particular source. The TSDs have more information about these rules.

II. EPA's Evaluation and Action

A. How Is EPA Evaluating the Rules?

Generally, SIP rules must be enforceable (see section 110(a) of the Act), must require Reasonably Available Control Technology (RACT) for major sources in nonattainment areas (see section 182(a)(2)(A)), and must not relax existing requirements (see sections 110(l) and 193).

Guidance and policy documents that we used to help evaluate specific enforceability and RACT requirements consistently include the following:

1. “Issues Relating to VOC Regulation Cutpoints, Deficiencies, and Deviations,” EPA, May 25, 1988 (the Bluebook).

2. “Guidance Document for Correcting Common VOC & Other Rule Deficiencies,” EPA Region 9, August 21, 2001 (the Little Bluebook).

3. “State Implementation Plans: Policy Regarding Excess Emissions During Malfunctions, Startup and Shutdown,” EPA Office of Air and Radiation, and EPA Office of Enforcement and Compliance Assurance, September 20, 1999 (“Excess Emissions Policy”).

4. “Guidelines for Including State and Local Rules in SIPs,” EPA Region IX, December 17, 1998. These guidelines were transmitted to the California Air Resources Board in a letter dated December 23, 1998 from David P. Howekamp, Director, Air Division, EPA Region IX, to Michael Kenny, Executive Officer, California Air Resources Board.

B. Do the Rules Meet the Evaluation Criteria?

The submitted SIP revisions conflict with section 110 and part D of the Act for the following reasons:

1. AVAQMD Rule 430, KCAPCD Rule 111, and MDAQMD Rule 430 describe how the districts intend to apply their enforcement discretion in instances where facilities exceed emissions limits due to breakdown. As stated in EPA's Excess Emissions Policy, a state or EPA may exercise its enforcement discretion to refrain from taking an enforcement action where excess emissions result from sudden and unavoidable malfunctions caused by circumstances entirely beyond the control of the owner or operator. However, the September 20, 1999 policy also makes clear that EPA will not approve SIP revisions that allow a state director's decision to bar EPA's or citizens' ability to take enforcement action. Accordingly, were EPA to approve enforcement discretion rules such as these, we would do so only while making clear that such action had no effect on EPA's or citizens' enforcement prerogatives. Under these circumstances, such a SIP revision would have no effect on the SIP. For this reason EPA considers it unproductive and potentially confusing to approve these enforcement discretion rules into the SIP.

2. As stated in the Excess Emissions Policy, EPA interprets the Act to require that all periods of excess emissions are violations of the applicable emissions limitation. A SIP revision may provide an affirmative defense for excess emissions so long as a State director's decision not to take an enforcement action does not bar EPA's or citizens' ability to take enforcement action. Further, acceptable affirmative defense provisions may only apply to actions for penalties, but not to actions for injunctive relief. BCAQMD Rule 275 and SHAQMD Rule 3:10 do not limit the applicability of the affirmative defense for excess emissions during an emergency to actions for penalties, but rather apply the defense to any action brought for non-compliance with technology-based emissions limits. BCAQMD Rule 275 and SHAQMD Rule 3:10 also fail to make clear that the excess emissions are violations of the applicable emissions limitation and that a determination by the APCO not to take an enforcement action (or a finding by the APCO that an emergency exists) would not bar EPA or citizen action.

These and other rule provisions which do not meet the evaluation criteria are discussed further in the TSDs.

C. Proposed Action and Public Comment

As authorized in sections 110(k)(3) of the Act, we are proposing a disapproval of the submitted AVAQMD Rule 430, BCAQMD Rule 275, KCAPCD Rule 111, MDAQMD Rule 430 and SHAQMD Rule 3:10. These are not required SIP submittals, so this disapproval would have no sanction implications under CAA section 179 or FIP implications under CAA section 110(c).

We will accept comments from the public on the proposed disapproval for the next 30 days.

III. Statutory and Executive Order Reviews

A. Executive Order 12866, Regulatory Planning and Review

The Office of Management and Budget (OMB) has exempted this regulatory action from Executive Order 12866, entitled “Regulatory Planning and Review.”

B. Paperwork Reduction Act

This rulemaking does not impose an information collection burden under the provisions of the Paperwork Reduction Act of 1995 (44 U.S.C. 3501 et seq.)

C. Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

This rulemaking action will not have a significant impact on a substantial number of small entities because SIP disapprovals under section 110 and subchapter I, part D of the Clean Air Act do not create any new requirements but simply disapprove for inclusion in the SIP requirements that the State is already imposing. Therefore, because the Federal SIP disapproval does not create any new requirements, I certify that this action will not have a significant economic impact on a substantial number of small entities.

Moreover, due to the nature of the Federal-State relationship under the Clean Air Act, preparation of flexibility analysis would constitute Federal inquiry into the economic reasonableness of state action. The Clean Air Act forbids EPA to base its actions concerning SIPs on such grounds. Union Electric Co., v. U.S. EPA, 427 U.S. 246, 255-66 (1976); 42 U.S.C. 7410(a)(2).

D. Unfunded Mandates Reform Act

Under section 202 of the Unfunded Mandates Reform Act of 1995 (“Unfunded Mandates Act”), signed into law on March 22, 1995, EPA must prepare a budgetary impact statement to accompany any proposed or final rule that includes a Federal mandate that may result in estimated costs to State, local, or tribal governments in the aggregate; or to the private sector, of $100 million or more. Under section 205, EPA must select the most cost-effective and least burdensome alternative that achieves the objectives of the rule and is consistent with statutory requirements. Section 203 requires EPA to establish a plan for informing and advising any small governments that may be significantly or uniquely impacted by the rule.

EPA has determined that the disapproval action proposed does not include a Federal mandate that may result in estimated costs of $100 million or more to either State, local, or tribal governments in the aggregate, or to the private sector. This Federal action proposes to disapprove pre-existing requirements under State or local law, and imposes no new requirements. Accordingly, no additional costs to State, local, or tribal governments, or to the private sector, result from this action.

E. Executive Order 13132, Federalism

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rulemaking action will not have substantial direct effects on the States, on the relationship between the national government and the States, or on the distribution of power and responsibilities among the various levels of government, as specified in Executive Order 13132, because it merely disapproves state rules implementing a federal standard, and does not alter the relationship or the distribution of power and responsibilities established in the Clean Air Act. Thus, the requirements of section 6 of the Executive Order do not apply to this rulemaking.

F. Executive Order 13175, Coordination With Indian Tribal Governments

Executive Order 13175, entitled “Consultation and Coordination with Indian Tribal Governments” (65 FR 67249, November 9, 2000), requires EPA to develop an accountable process to ensure “meaningful and timely input by tribal officials in the development of regulatory policies that have tribal implications.” These proposed rule disapprovals do not have tribal implications, as specified in Executive Order 13175. They will not have substantial direct effects on tribal governments, on the relationship between the Federal government and Indian tribes, or on the distribution of power and responsibilities between the Federal government and Indian tribes. Thus, Executive Order 13175 does not apply to these rule disapprovals.

EPA specifically solicits additional comment on these proposed rule disapprovals from tribal officials.

H. Executive Order 13045, Protection of Children From Environmental Health Risks and Safety Risks

Protection of Children from Environmental Health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rulemaking on children, and explain why the planned action is preferable to other potentially effective and reasonably feasible alternatives considered by the Agency.

This rulemaking is not subject to Executive Order 13045 because it does not involve decisions intended to mitigate environmental health or safety risks.

H. Executive Order 13211, Actions That Significantly Affect Energy Supply, Distribution, or Use

This rulemaking is not subject to Executive Order 13211, “Actions Concerning Regulations That Significantly Affect Energy Supply, Distribution, or Use” (66 FR 28355, May 22, 2001) because it is not a significant regulatory action under Executive Order 12866.

I. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

List of Subjects in 40 CFR Part 52

Environmental protection, Air pollution control, Intergovernmental relations, Ozone, Reporting and recordkeeping requirements, Volatile organic compound.

Authority: 42 U.S.C. 7401 et seq.

Dated: May 15, 2003.
Alexis Strauss,
Acting Regional Administrator, Region IX.

[FR Doc. 03-14320 Filed 6-5-03; 8:45 am]

BILLING CODE 6560-50-P